POSTAL SERVICE

Board of Governors; Sunshine Act Meeting

Board Votes to Close April 26, 2012, Meeting

By telephone vote on April 26, 2012, members of the Board of Governors of the United States Postal Service met and voted unanimously to close to public observation its meeting held in Washington, DC, via teleconference. The Board determined that no earlier public notice was possible.

ITEMS CONSIDERED: 1. Strategic Issues.

2. Financial Matters.

GENERAL COUNSEL CERTIFICATION: The General Counsel of the United States Postal Service has certified that the meeting was properly closed under the Government in the Sunshine Act.

CONTACT PERSON FOR MORE INFORMATION: Requests for information about the meeting should be addressed to the Secretary of the Board, Julie S. Moore, at (202) 268-4800.

Julie S. Moore,
Secretary.

[FR Doc. 2012-10854 Filed 5-1-12; 4:15 pm]

BILLING CODE 7710-12-P